DEPARTMENT OF ENERGY

[GDO Docket No. EA-484-A]

Application for Renewal of Authorization To Export Electric Energy; CFE International LLC

AGENCY: Grid Deployment Office, Department of Energy.

ACTION: Notice of application.

SUMMARY: CFE International LLC (the Applicant or CFEi) has applied for renewed authorization to transmit electric energy from the United States to Mexico pursuant to the Federal Power Act.

DATES: Comments, protests, or motions to intervene must be submitted on or before December 22, 2025.

ADDRESSES: Comments, protests, motions to intervene, or requests for more information should be addressed by electronic mail to Electricity.Exports@hq.doe.gov.

FOR FURTHER INFORMATION CONTACT: Marina Fennel, (240) 702-6156, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.¹

¹ As stated in Redelegation Order No. S3-DEL-GD1-2023, nothing in the Order precludes the Secretary or the Under Secretary (for Infrastructure) from exercising any of the authority delegated by the Order.

On June 26, 2025, CFEi filed an application with DOE (Application or App.) for renewal of their export authority for an additional five-year term. App. at 2.

According to the Application, CFEi is a Delaware limited liability company that is a wholly-owned, direct subsidiary of the Comisión Federal de Electricidad, which is itself wholly owned by the Mexican Federal Government. Id at 3. The Applicant states it “has received authorization from the Federal Energy Regulatory Commission . . . to sell energy, capacity, and certain ancillary services at wholesale market-based rates[.]” Id.

CFEi states that it “does not directly or indirectly own, operate or control any electric generation facilities, electric transmission facilities, distribution facilities, or inputs to electric power production” and is not “affiliated with an [sic] utility that has a franchised service territory in the United States.” Id. at 5. The Applicant further states that “[t]he electric energy that Applicant would export would be surplus energy purchased in wholesale markets” and that “proposed exports accordingly will not impair the adequacy of electric power supply within the United States[.]” Id. at 6-7. The Applicant states that “[t]he requested authorization will not impede or tend to impede regional coordination of electric utility planning or operation” and that it “will make all necessary commercial arrangements and will obtain any and all other regulatory approval required in order to carry out any power exports.” Id. at 7.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning CFEi's Application should be clearly marked with GDO Docket No. EA-484-A. Additional copies are to be provided directly to Juan Esteban Corro Jalpa, CFE International LLC, 825 Town & Country Lane, Houston, TX 77024, juan.corro@cfeinternational.com; Sarah Tucker and Keturah A. Brown, Sidley Austin LLP, 1501 K Street NW, Washington, DC 20005, stucker@sidley.com, keturah.brown@sidley.com.

A final decision will be made on the requested authorization after DOE reviews the action pursuant to the National Environmental Policy Act Implementing Procedures (June 2025), including 10 CFR part 1021, and after DOE evaluates whether the proposed action will have an adverse impact on the sufficiency of supply or reliability of the United States electric power supply system.

Copies of this Application will be made available, upon request, by accessing the program website at www.energy.gov/gdo/pending-applications-0 or by emailing Electricity.Exports@hq.doe.gov.

Signing Authority

This document of the Department of Energy was signed on November 14, 2025, by Chris Wright, Secretary of Energy, U.S. Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 19, 2025.
Treena V. Garrett,
Federal Register Liaison Officer, U.S. Department of Energy.

[FR Doc. 2025-20604 Filed 11-20-25; 8:45 am]

BILLING CODE 6450-01-P